DEPARTMENT OF TRANSPORTATION

Bureau of Transportation Statistics

Agency Information Collection; Activity Under OMB Review; Domestic Cargo Transportation—Part 291

AGENCY: Bureau of Transportation Statistics (BTS), DOT.

ACTION: Notice.

SUMMARY: In compliance with the Paperwork Reduction Act of 1995, Public Law 104-13, the Bureau of Transportation Statistics invites the general public, industry and other governmental parties to comment on the continuing need for and usefulness of DOT requiring domestic all-cargo carriers, that do not submit Form 41 reports, to file Form 291-A AStatement of Operations and Statistics Summary for Section 41103 Operations* pursuant to 14 CFR 291.42. Form 291-A is used to monitor air-cargo activity on all-cargo flights.

DATES: Written comments should be submitted by November 21, 2000.

ADDRESSES: Comments should be directed to: Office of Airline Information, K-25, Room 4125, Bureau of Transportation Statistics, 400 Seventh Street, SW., Washington, DC 20590-0001, FAX NO. 366-3383 or E-MAIL bernard.stankus@bts.gov.

Comments

Comments should identify the OMB # 2138-0023. Persons wishing the Department to acknowledge receipt of their comments must submit with those comments a self-addressed stamped postcard on which the following statement is made: Comments on OMB #2138-0023. The postcard will be date/time stamped and returned.

FOR FURTHER INFORMATION CONTACT: Bernie Stankus Office of Airline Information, K-25, Room 4125, Bureau of Transportation Statistics, 400 Seventh Street, SW., Washington, DC 20590-0001, (202) 366-4387.

SUPPLEMENTARY INFORMATION: OMB Approval No. 2138-0023.

Title: Domestic Cargo Transportation Part 291.

Form No.: BTS Form 291-A.

Type Of Review: Extension of a currently approved collection.

Respondents: Certificated all-cargo air carriers.

Number of Respondents: 1.

Number of Responses: 1.

Total Annual Burden: 12 hours.

Needs and Uses: BTS Form 291-A financial data are reviewed in connection with an air carrier's operations when concerns arise as to a carrier's financial condition as evidenced by reported losses. Data comparisons are made between current and past periods in order to assess the current financial position. Financial trend lines are extended into the future to evaluate the continued viability of the air carrier.

Commercial all-cargo activity data are used by the FAA in estimating the excise tax paid by shippers and held by the all-cargo air carriers. Although a precise amount cannot be computed because of the limitations of the report, an estimation is possible for revenue budgeting purposes.

Donald W. Bright,
Director, Office of Airline Information, Bureau of Transportation Statistics.

[FR Doc. 00-24429 Filed 9-21-00; 8:45 am]

BILLING CODE 4910-FE-P